DEPARTMENT OF TRANSPORTATION

Federal Railroad Administration

[Docket No. FRA-2017-0002-N-10]

Approved Agency Information Collection Activities

AGENCY: Federal Railroad Administration (FRA), U.S. Department of Transportation (DOT).

ACTION: Notice of Office of Management and Budget (OMB) approvals.

SUMMARY: This notice announces OMB approved new information collection requests (ICRs) for 49 CFR parts 223, 228, 232, 234, 237, 238, and 270, under the Paperwork Reduction Act of 1995 (PRA). FRA also announces OMB re-approved other ICRs for 49 CFR parts 207, 209, 210, 212, 214, 215, 216, 218, 219, 221, 222, 223, 225, 227, 228, 229, 230, 232, 233, 235, 236, 238, 241, and 242, and related to other regulatory activities. Further, OMB reinstated two ICRs for 49 CFR parts 215 and 234, and approved one ICR under Emergency Processing procedures.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132). (These telephone numbers are not toll free.)

SUPPLEMENTARY INFORMATION: The PRA, 44 U.S.C. 3501-3520, and its implementing regulations, 5 CFR part 1320, require Federal agencies to ensure information collections display OMB control numbers. In the past 25 months, OMB approved the following new FRA information collections with the following expiration dates: (1) OMB No. 2130-0597, Training Qualification, and Oversight of Safety-Related Railroad Employees (final rule) (49 CFR part 228)—January 31, 2018; (2) OMB No. 2130-0017, National Highway-Rail Grade Crossing Inventory Reporting Requirements (final rule) (Form FRA F 6180.71) (49 CFR part 234)—March 31, 2018; (3) OMB No. 2130-0008, Securement of Unattended Trains (final rule) (49 CFR part 232)—November 30, 2018; (4) OMB No. 2130-0544, Passenger Train Exterior Side Door Safety (final rule) (49 CFR part 238)—February 28, 2019; (5) OMB No. 2130-025, Certification of Materials: Safety Glazing Standards (final rule) (49 CFR part 223)—April 30, 2019; (6) OMB No. 2130-0599, System Safety Program (final rule) (49 CFR part 270)—October 31, 2019; and (7) OMB No. 2130-0617, Survey of Plant and Insular Tourist Railroads Subject to FRA Bridge Safety Standards (49 CFR part 237) (email survey)—December 31, 2017.

Additionally, in the past 25 months, OMB has re-approved the following information collections with the following new expiration dates: (1) OMB No. 2130-0595, Safety and Health Requirements Related to Camp Cars (49 CFR part 228)—January 31, 2018; (2) OMB No. 2130-0596, Conductor Certification (49 CFR part 242)—April 30, 2018; (3) OMB No. 2130-0556, U.S. Locational Requirements for Dispatching U.S. Rail Operations (49 CFR part 241)—January 31, 2018; (4) OMB No. 2130-0539, Roadway Worker Protection (49 CFR part 214)—January 31, 2018; (5) OMB No. 2130-0506, Cars Moved in Accordance with Order 13528 (49 CFR part 232)—January 31, 2018; (6) OMB No. 2130-0571, Occupational Noise Exposure for Railroad Operating Employees (49 CFR parts 227 and 229)—April 30, 2018; (7) OMB No. 2130-0505, Inspection and Maintenance of Steam Locomotives (49 CFR part 230)—August 31, 2018; (8) OMB No. 2130-0526, Control of Alcohol and Drug Use in Railroad Operations (49 CFR part 219)—August 31, 2018; (9) OMB No. 2130-0606, Railworthiness Directive under 49 CFR 180.509 for Railroad Tank Cars Equipped with Certain McKenzie Valve and Machining LLC Valves—September 30, 2018; (10) OMB No. 2130-0500, Accident/Incident Reporting and Recordkeeping (49 CFR part 225), revision of Form FRA F 6180.54, Rail Equipment Accident/Incident Report (addition of Special Study Blocks)—February 28, 2017; (11) OMB No. 2130-0607, FRA Safety Advisory 2015-01, Mechanical Inspections and Wheel Impact Load Detector Standards for Trains Transporting Large Amounts of Class 3 Flammable Liquids—December 31, 2018; (12) OMB No. 2130-0608, FRA Safety Advisory 2015-02, Hazardous Materials: Information Requirements Related to Transportation of Trains Carrying Specified Volumes of Flammable Liquids—December 31, 2018; (13) OMB No. 2130-0006, Railroad Signal System Requirements (49 CFR parts 233 and 235)—December 31, 2018; (14) OMB No. 2130-0614, FRA Safety Advisory 2015-04, Ballast Defects and Conditions: Importance of Identification and Repair in Preventing Development of Unsafe Combinations of Track Conditions—March 31, 2019; (15) OMB No. 2130-0004, Locomotive Safety Standards and Event Recorders (49 CFR part 229)—December 31, 2018; (16) OMB No. 2130-0611, FRA Emergency Order No. 31, Notice No. 1, Emergency Order under 49 U.S.C. 20104 Establishing Requirements for the National Railroad Passenger Corporation to Control Passenger Train Speeds at Certain Locations Along the Northeast Corridor—December 31, 2018; (17) OMB No. 2130-0509, State Safety Participation Regulations and Remedial Actions (49 CFR parts 209 and 212)—January 31, 2019; (18) OMB No. 2130-0560, Use of Locomotive Horns at Highway-Rail Grade Crossings (49 CFR part 222)—January 31, 2019; (19) OMB No. 2130-0613, FRA Safety Advisory 2015-03, Operational and Signal Modifications for Compliance with Maximum Authorized Train Speeds and Other Restrictions—February 28, 2019; (20) OMB No. 2130-0565, Safety Appliance Standards Guidance Checklist Forms, approval of new Forms FRA F 6180.161(a)-(j)—May 31, 2019; (21) OMB No. 2130-0529, Disqualification Proceedings (49 CFR part 209)—April 30, 2019; (22) OMB No. 2130-0604, Secretary's Emergency Order Docket No. DOT-OST-2014-0067, Emergency Order Providing for Local Notification of High-Volume Rail Transport of Bakken Crude Oil—March 31, 2019; (23) OMB No. 2130-0586, Bridge Inspection Report Form Public Version (Form FRA F 6180.167)—September 30, 2019; (24) OMB No. 2130-0502, Filing of Dedicated Cars (49 CFR part 215)—October 31, 2019; (25) OMB No. 2130-0504, Special Notice for Repairs (49 CFR part 216)—October 31, 2019; (26) OMB No. 2130-0523, Rear-End Marking Devices (49 CFR part 221)—October 31, 2019; (27) OMB No. 2130-0527, Locomotive Certification (Noise Compliance Regulations) (49 CFR part 210)—October 31, 2019; (28) OMB No. 2130-0537, Railroad Police Officers (49 CFR part 207)—October 31, 2019; (29) OMB No. 2130-0555, Foreign Railroads Foreign-Based Employees Who Perform Train or Dispatching Service in the United States (49 CFR part 219)—October 31, 2019; (30) OMB No. 2130-0553, Positive Train Control (PTC) Annual Progress Report (Form FRA F6180.166) (49 CFR part 236)—November 31, 2017; (31) OMB No. 2130-0516, Remotely Controlled Switches (49 CFR part 218)—January 31, 2020; (32) OMB No. 2130-0519, Bad Order and Home Shop Card (49 CFR part 215)—January 31, 2020; (33) OMB No. 2130-0535, Bridge Worker Safety Rules (49 CFR part 214)—January 31, 2020; and (34) OMB No. 2130-0590, Alleged Violation Reporting Form (FRA F 6180.151)—January 31, 2020.

Furthermore, in the past 25 months, OMB reinstated the following information collections with the following new expiration dates: (1) OMB No. 2130-0520, Stenciling Reporting Mark on Freight Cars (49 CFR part 215)—January 31, 2020; and (2) OMB No. 2130-0534, Grade Crossing Signal System (49 CFR part 234)—January 31, 2020.

Finally, under Emergency Processing procedures, OMB approved information collection OMB No. 2130-0616, Railworthiness Directive for Certain Railroad Tank Cars Equipped with Bottom Outlet Valve Assembly and Constructed by American Railcar Industries and ACF Industries, expiring April 30, 2017.

Persons affected by the above-referenced information collections are not required to respond to any collection of information unless it displays a currently valid OMB control number. These OMB approvals certify FRA has complied with the provisions of the PRA requiring agency action before carrying out information collections.

Authority: 44 U.S.C. 3501-3520.

Sarah L. Inderbitzin,
Acting Chief Counsel.

[FR Doc. 2017-05053 Filed 3-13-17; 8:45 am]

BILLING CODE 4910-06-P